DEPARTMENT OF LABOR

Employment and Training Administration

[TA-W-91,549]

W.W. Grainger, Inc., Janesville Facility Division Including On-Sited Leased Workers From Peoplescout.Com and Superior Workforce Solutions, Inc., Janesville, Wisconsin; Amended Certification Regarding Eligibility To Apply for Worker Adjustment Assistance

In accordance with Section 223 of the Trade Act of 1974, as amended (“Act”), 19 U.S.C. 2273, the Department of Labor issued a Certification of Eligibility to Apply for Worker Adjustment Assistance on April 22, 2016, applicable to workers of W.W. Grainger, Inc., Janesville Facility Division, including on-site leased workers from Peoplescout.com, Janesville, Wisconsin. The Department's notice of determination was published in the Federal Register on April 26, 2016 (81 FR 24646). Workers are engaged in the supply of distribution services of materials, repair, and operating (MRO) products.

At the request of subject firm, the Department reviewed the certification for workers of the subject firm.

W.W. Grainger, Inc. confirmed that workers leased from Superior Workforce Solutions Inc. are employed on-site at its Janesville, Wisconsin facility.

The Department has determined that these workers were sufficiently under the control of the subject firm to be considered leased workers.

Based on these findings, the Department is amending this certification to include workers leased from Peoplescout.com and Superior Workforce Solutions, Inc., working on-site at the Janesville, Wisconsin location of W.W. Grainger, Inc., Janesville Facility Division.

The amended notice applicable to TA-W-91,549 is hereby issued as follows:

“All workers of W.W. Grainger, Inc., Janesville Facility Division, including on-site leased workers from Peoplescout.com and Superior Workforce Solutions, Inc., Janesville, Wisconsin, who became totally or partially separated from employment on or after March 3, 2015 through April 22, 2018, and all workers in the group threatened with total or partial separation from employment on April 22, 2016 through April 22, 2018, are eligible to apply for adjustment assistance under Chapter 2 of Title II of the Trade Act of 1974, as amended.”

Signed in Washington, DC, this 23rd day of November, 2016.
Del Min Amy Chen,
Certifying Officer, Office of Trade Adjustment Assistance.

[FR Doc. 2016-31970 Filed 1-4-17; 8:45 am]

BILLING CODE 4510-FN-P